DEPARTMENT OF COMMERCE

National Oceanic and Atmospheric Administration

Proposed Information Collection; Comment Request; Alaska Observer Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 4, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Alicia Miller at (907) 586-7228.

SUPPLEMENTARY INFORMATION:

I. Abstract

This request is for an extension of a currently approved information collection.

The North Pacific Observer Program (Observer Program) is implemented under the authority of section 313 of the Magnuson-Stevens Fishery Conservation and Management Act and regulations at 50 CFR 679. Through the Observer Program, the National Marine Fisheries Service (NMFS) collects the data necessary to conserve and manage the groundfish and halibut fisheries off Alaska. Observers collect biological samples and fishery-dependent information used to estimate total catch and interactions with protected species. Managers use data collected by observers to manage groundfish and prohibited species catch within established limits and to document and reduce fishery interactions with protected resources. Scientists use observer data to assess fish stocks, to provide scientific information for fisheries and ecosystem research and fishing fleet behavior, to assess marine mammal interactions with fishing gear, and to assess fishing interactions with habitat.

All vessels and processors that participate in federally managed or parallel groundfish and halibut fisheries off Alaska are assigned to one of two categories: (1) The full observer coverage category, where vessels and processors obtain observer coverage by contracting directly with observer providers; or (2) the partial coverage category, where NMFS, in consultation with the North Pacific Fishery Management Council determines when and where observer coverage is needed. Some vessels and processors may be in full coverage for part of the year and partial coverage at other times of the year depending on the observer coverage requirements for specific fisheries. Funds for deploying observers on vessels in the partial coverage category are provided through a system of fees based on the gross ex-vessel value of retained groundfish and halibut. This observer fee is assessed on all landings by vessels that are not otherwise in full coverage. Information collected for the observer fee is approved under OMB Control No. 0648-0711.

II. Method of Collection

Methods of submittal include online web applications, email, email attachments, verbal communication by telephone or in person, and on paper by mail or fax. The Observer Declare and Deploy System (ODDS) is an internet-based interface that is used by vessel owners and operators in the partial coverage category. ODDS is available online at https://chum.afsc.noaa.gov:7104/apex/f?p=140:1 or by phone at 1-855-747-6377. Copies of observer coverage category request forms are available on the NMFS Alaska Region website at https://alaskafisheries.noaa.gov/.

III. Data

OMB Control Number: 0648-0318.

Form Number(s): None.

Type of Review: Regular submission (extension of a current information collection).

Affected Public: Business or other for-profit organizations; individuals or households.

Estimated Number of Respondents: 769.

Estimated Time per Response: 5 minutes to request full observer coverage, placement in or removed from the Electronic Monitoring (EM) selection pool, close an EM trip in ODDS, pre-cruise meeting notification, physical examination verification, update to provider information; 15 minutes to log a fishing trip in ODDS; 48 hours for a Vessel Monitoring Plan; 1 hour to submit EM data, and observer training registration; 30 minutes for request small catcher/processor placement in partial coverage category; 4 hours for appeals; 2 minutes to notify observer before handling the vessel's Bering Sea pollock catch; 8 hours for candidates' college transcripts and statements; 7 minutes for observer briefing registration, projected observer assignments, and observer deployment and logistics reports; 30 minutes for observer debriefing registration, observer provider contracts, invoice copies, and industry request for assistance; 12 minutes for certificates of insurance; 2 hours for other reports; 60 hours for observer provider permit application.

Estimated Total Annual Burden Hours: 10,501 hours.

Estimated Total Annual Cost to Public: $2,658 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 2, 2018.
Sarah Brabson,
NOAA PRA Clearance Officer.

[FR Doc. 2018-14518 Filed 7-5-18; 8:45 am]

BILLING CODE 3510-22-P